DEPARTMENT OF ENERGY

Federal Energy Regulatory Commission

Combined Notice of Filings #1

Take notice that the Commission received the following electric corporate filings:

Docket Numbers: EC22-10-000.

Applicants: Skipjack Solar Center, LLC, AES Laurel Mountain, LLC, Mountain View Power Partners, LLC.

Description: Joint Application for Authorization Under Section 203 of the Federal Power Act of Skipjack Solar Center, LLC.

Filed Date: 10/27/21.

Accession Number: 20211027-5065.

Comment Date: 5 p.m. ET 11/17/21.

Take notice that the Commission received the following exempt wholesale generator filings:

Docket Numbers: EG22-12-000.

Applicants: Kings Creek Wind Farm 1 LLC.

Description: Notice of Self-Certification of Exempt Wholesale Generator Status of Kings Creek Wind Farm 1 LLC.

Filed Date: 10/26/21.

Accession Number: 20211026-5158.

Comment Date: 5 p.m. ET 11/16/21.

Docket Numbers: EG22-13-000.

Applicants: Kings Creek Wind Farm 2 LLC.

Description: Notice of Self-Certification of Exempt Wholesale Generator Status of Kings Creek Wind Farm 2 LLC.

Filed Date: 10/26/21.

Accession Number: 20211026-5159.

Comment Date: 5 p.m. ET 11/16/21.

Docket Numbers: EG22-14-000.

Applicants: Calhoun Solar Energy LLC.

Description: Notice of Self-Certification of Exempt Wholesale Generator Status of Calhoun Solar Energy LLC.

Filed Date: 10/27/21.

Accession Number: 20211027-5116.

Comment Date: 5 p.m. ET 11/17/21.

Take notice that the Commission received the following Complaints and Compliance filings in EL Dockets:

Docket Numbers: EL22-3-000.

Applicants: Flint Mine Solar LLC v. New York Independent System Operator, Inc.

Description: Amended Complaint of Flint Mine Solar LLC for Refund of Milestone Deposit.

Filed Date: 10/27/21.

Accession Number: 20211027-5060.

Comment Date: 5 p.m. ET 11/3/21.

Take notice that the Commission received the following electric rate filings:

Docket Numbers: ER11-1843-001.

Applicants: Ridgewind Power Partners, LLC.

Description: Notice of Non-Material Change in Status of Ridgewind Power Partners, LLC.

Filed Date: 10/27/21.

Accession Number: 20211027-5064.

Comment Date: 5 p.m. ET 11/17/21.

Docket Numbers: ER18-1639-000.

Applicants: Constellation Mystic Power, LLC.

Description: Formal Challenge of the New England States Committee on Electricity to September 15, 2021 Annual Informational Filing by Constellation Mystic Power, LLC.

Filed Date: 10/15/21.

Accession Number: 20211015-5229.

Comment Date: 5 p.m. ET 11/17/21.

Docket Numbers: ER18-1639-000.

Applicants: Constellation Mystic Power, LLC.

Description: Formal Challenges of the Eastern New England Customer-Owned Systems (Braintree Electric Light Department, et al) to September 15, 2021 Informational Filing by Constellation Mystic Power, LLC.

Filed Date: 10/15/21.

Accession Number: 20211015-5232.

Comment Date: 5 p.m. ET 11/17/21.

Docket Numbers: ER20-1317-003.

Applicants: Arizona Public Service Company.

Description: Compliance filing: Supplement to Amended Compliance Filing in Compliance with Order No. 864 to be effective 1/27/2020.

Filed Date: 10/27/21.

Accession Number: 20211027-5090.

Comment Date: 5 p.m. ET 11/17/21.

Docket Numbers: ER20-1836-001.

Applicants: Dominion Energy South Carolina, Inc.

Description: Compliance filing: Supplemental Order No. 864 Compliance filing to be effective 1/27/2020.

Filed Date: 10/27/21.

Accession Number: 20211027-5035.

Comment Date: 5 p.m. ET 11/17/21.

Docket Numbers: ER21-1225-003.

Applicants: Long Ridge Energy Generation LLC.

Description: Tariff Amendment: Response to Request for Information and Request for Expedited Processing to be effective 4/29/2021.

Filed Date: 10/27/21.

Accession Number: 20211027-5076.

Comment Date: 5 p.m. ET 11/10/21.

Docket Numbers: ER21-2509-001.

Applicants: ISO New England Inc., Cross-Sound Cable Company, LLC.

Description: Compliance filing: ISO New England Inc. submits tariff filing per 35: ISO-NE & Cross Sound Cable; Revised OATT Schedule 18 to be effective 12/31/9998.

Filed Date: 10/27/21.

Accession Number: 20211027-5104.

Comment Date: 5 p.m. ET 11/17/21.

Docket Numbers: ER21-2900-001.

Applicants: Duke Energy Florida, LLC, Duke Energy Carolinas, LLC, Duke Energy Progress, LLC.

Description: Tariff Amendment: Duke Energy Florida, LLC submits tariff filing per 35.17(b): Errata Filing—Joint OATT—Revisions to Network Contract Demand Service to be effective 11/17/2021.

Filed Date: 10/26/21.

Accession Number: 20211026-5147.

Comment Date: 5 p.m. ET 11/16/21.

Docket Numbers: ER22-211-000.

Applicants: PacifiCorp.

Description: Tariff Amendment: Termination of UAMPS Construction Agreement—Lehi Temp Tap to be effective 1/17/2022.

Filed Date: 10/26/21.

Accession Number: 20211026-5141.

Comment Date: 5 p.m. ET 11/16/21.

Docket Numbers: ER22-212-000.

Applicants: Southwest Power Pool, Inc.

Description: § 205(d) Rate Filing: Revisions to Address Anomalous Virtual Transaction Reference Prices to be effective 12/10/2021.

Filed Date: 10/26/21.

Accession Number: 20211026-5146.

Comment Date: 5 p.m. ET 11/16/21.

Docket Numbers: ER22-213-000.

Applicants: ISO New England Inc., New England Power Pool Participants Committee.

Description: § 205(d) Rate Filing: ISO New England Inc. submits tariff filing per 35.13(a)(2)(iii: ISO-NE and NEPOOL; Revisions to Remove Notarization Requirement Under the FAP to be effective 1/1/2022.

Filed Date: 10/27/21.

Accession Number: 20211027-5037.

Comment Date: 5 p.m. ET 11/17/21.

Docket Numbers: ER22-214-000.

Applicants: NSTAR Electric Company.

Description: Tariff Amendment: Cancellation—Cranberry Power Energy Storage LLC—Design & Engineering Agreement to be effective 10/8/2021.

Filed Date: 10/27/21.

Accession Number: 20211027-5038.

Comment Date: 5 p.m. ET 11/17/21.

Docket Numbers: ER22-215-000.

Applicants: Beulah Solar, LLC.

Description: Baseline eTariff Filing: Beulah Solar, LLC MBR Tariff to be effective 12/31/9998.

Filed Date: 10/27/21.

Accession Number: 20211027-5043.

Comment Date: 5 p.m. ET 11/17/21.

Docket Numbers: ER22-216-000.

Applicants: PGR 2021 Lessee 2, LLC.

Description: Baseline eTariff Filing: PGR 2021 Lessee 2, LLC MBR Tariff to be effective 12/31/9998.

Filed Date: 10/27/21.

Accession Number: 20211027-5044.

Comment Date: 5 p.m. ET 11/17/21.

Docket Numbers: ER22-217-000.

Applicants: Southwest Power Pool, Inc.

Description: § 205(d) Rate Filing: Revisions to Attachment Y to Update Transmission Owner Selection Process to be effective 12/27/2021.

Filed Date: 10/27/21.

Accession Number: 20211027-5057.

Comment Date: 5 p.m. ET 11/17/21.

Docket Numbers: ER22-218-000.

Applicants: Southwest Power Pool, Inc.

Description: § 205(d) Rate Filing: Revisions to Attachment W to Update Index of Grandfathered Agreements to be effective 1/1/2022.

Filed Date: 10/27/21.

Accession Number: 20211027-5058.

Comment Date: 5 p.m. ET 11/17/21.

Docket Numbers: ER22-219-000.

Applicants: Southwest Power Pool, Inc.

Description: § 205(d) Rate Filing: Revisions to Modify Schedule 1-A to Increase Administration Cap to be effective 1/1/2022.

Filed Date: 10/27/21.

Accession Number: 20211027-5100.

Comment Date: 5 p.m. ET 11/17/21.

Docket Numbers: ER22-220-000.

Applicants: Pacific Gas and Electric Company.

Description: § 205(d) Rate Filing: Extension to Port of Oakland WDT SA 3 to be effective 12/27/2021.

Filed Date: 10/27/21.

Accession Number: 20211027-5107.

Comment Date: 5 p.m. ET 11/17/21.

Docket Numbers: ER22-221-000.

Applicants: DesertLink, LLC.

Description: Compliance filing: Annual TRBAA Filing to be effective 1/1/2022.

Filed Date: 10/27/21.

Accession Number: 20211027-5130.

Comment Date: 5 p.m. ET 11/17/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2021.
Debbie-Anne A. Reese,
Deputy Secretary.

[FR Doc. 2021-23955 Filed 11-2-21; 8:45 am]

BILLING CODE 6717-01-P